OFFICE OF PERSONNEL MANAGEMENT

Excepted Service

AGENCY: U.S. Office of Personnel Management (OPM).

ACTION: Notice.

SUMMARY: This notice identifies Schedule A, B, and C appointing authorities applicable to a single agency that were established or revoked from April 1, 2015, to April 30, 2015.

FOR FURTHER INFORMATION CONTACT: Senior Executive Resources Services, Senior Executive Services and Performance Management, Employee Services, 202-606-2246.

SUPPLEMENTARY INFORMATION: In accordance with 5 CFR 213.103, Schedule A, B, and C appointing authorities available for use by all agencies are codified in the Code of Federal Regulations (CFR). Schedule A, B, and C appointing authorities applicable to a single agency are not codified in the CFR, but the Office of Personnel Management (OPM) publishes a notice of agency-specific authorities established or revoked each month in the Federal Register at www.gpo.gov/fdsys/. OPM also publishes an annual notice of the consolidated listing of all Schedule A, B, and C appointing authorities, current as of June 30, in the Federal Register.

Schedule A

No Schedule A Authorities to report during April 2015.

Schedule B

No Schedule B Authorities to report during April 2015.

Schedule C

The following Schedule C appointing authorities were approved during April 2015.

Agency name | Organization name | Position title | Authorization No. | Effective date
DEPARTMENT OF AGRICULTURE | Office of the Secretary | Special Advisor | DA150118 | 4/2/2015
|  | Senior Advisor | DA150120 | 4/2/2015
| Office of the Under Secretary for Marketing and Regulatory Programs | Senior Advisor | DA150119 | 4/2/2015
DEPARTMENT OF COMMERCE | National Oceanic and Atmospheric Administration | Special Assistant | DC150086 | 4/8/2015
| International Trade Administration | Director, Office of Strategic Partnerships, Industry and Analysis | DC150088 | 4/16/2015
| Office of Legislative and Intergovernmental Affairs | Director of Legislative Outreach | DC150091 | 4/22/2015
| Office of the Chief Financial Officer and Assistant Secretary for Administration | Chief of Staff for Administration | DC150097 | 4/28/2015
DEPARTMENT OF DEFENSE | Office of Assistant Secretary of Defense (Public Affairs) | Special Assistant for Community and Public Outreach | DD150116 | 4/8/2015
| Office of the Secretary | Deputy White House Liaison | DD150118 | 4/13/2015
| Office of the Assistant Secretary of Defense (Asian and Pacific Security Affairs) | Special Assistant for Asian and Pacific Security Affairs | DD150120 | 4/30/2015
| Office of the Assistant Secretary of Defense (International Security Affairs) | Special Assistant for International Security Affairs | DD150121 | 4/30/2015
DEPARTMENT OF EDUCATION | Office of Communications and Outreach | Assistant Press Secretary | DB150069 | 4/2/2015
| Office of the Secretary | Special Assistant | DB150066 | 4/17/2015
| Office of Communications and Outreach | Special Assistant | DB150070 | 4/17/2015
| Office of Planning, Evaluation and Policy Development | Confidential Assistant Deputy Assistant Secretary for Higher Education and Student Financial Aid | DB150072 DB150073 | 4/17/2015 4/17/2015
|  | Senior Policy Advisor | DB150074 | 4/20/2015
| Office for Civil Rights | Special Assistant | DB150064 | 4/29/2015
DEPARTMENT OF ENERGY | Advanced Research Projects Agency—Energy | Special Advisor | DE150065 | 4/3/2015
| Assistant Secretary for Congressional and Intergovernmental Affairs | Director of External Affairs Senior Advisor and Strategic Projects Manager | DE150044 DE150069 | 4/14/2015 4/14/2015
| Assistant Secretary for Electricity Delivery and Energy Reliability | Special Advisor Office the Assistant Secretary for Electricity Delivery and Energy Reliability | DE150068 | 4/14/2015
| Assistant Secretary for International Affairs | Special Advisor Senior Advisor | DE150078 DE150080 | 4/15/2015 4/15/2015
| Office of Management | Special Assistant and Scheduler | DE150076 | 4/30/2015
| Office of Public Affairs | Deputy Director, Office of Public Affairs | DE150077 | 4/30/2015
ENVIRONMENTAL PROTECTION AGENCY | Office of Public Engagement and Environmental Education | Deputy Director for Public Engagement and Faith Based Initiatives | EP150016 | 4/2/2015
EXPORT-IMPORT BANK | Office of the Chairman | Special Assistant | EB150002 | 4/17/2015
GENERAL SERVICES ADMINISTRATION | Office of Small Business Utilization | Special Assistant | GS150027 | 4/1/2015
| Office of Communications and Marketing | Deputy Associate Administrator for Media Affairs | GS150031 | 4/30/2015
DEPARTMENT OF HEALTH AND HUMAN SERVICES | Office of the Assistant Secretary for Public Affairs | Director of Strategic Planning Confidential Assistant | DH150124 DH150127 | 4/16/2015 4/17/2015
|  | Director of Speechwriting | DH150128 | 4/17/2015
| Office of the Secretary | Director of Advance | DH150113 | 4/17/2015
| Office of Intergovernmental and External Affairs | Special Assistant | DH150125 | 4/17/2015
| Office of Health Reform | Director of Delivery System Reform | DH150129 | 4/23/2015
DEPARTMENT OF HOMELAND SECURITY | Office of the Under Secretary for National Protection and Programs Directorate | Advisor | DM150068 | 4/9/2015
| Office of the Assistant Secretary for Intergovernmental Affairs | Director, Homeland Security Advisory Council | DM150129 | 4/16/2015
DEPARTMENT OF HOUSING AND URBAN DEVELOPMENT | Office of the General Counsel | Senior Counsel | DU150050 | 4/30/2015
DEPARTMENT OF THE INTERIOR | Secretary's Immediate Office | Special Assistant | DI150074 | 4/1/2015
|  | Deputy Director of Scheduling and Advance | DI150048 | 4/13/2015
| Bureau of Ocean Energy Management | Advisor | DI150080 | 4/2/2015
| Bureau of Land Management | Advisor | DI150083 | 4/3/2015
| Assistant Secretary—Fish and Wildlife and Parks | Senior Advisor for Fish, Wildlife and Parks | DI150023 | 4/9/2015
| Office of Congressional and Legislative Affairs | Counsel | DI150073 | 4/9/2015
| Bureau of Reclamation | Chief, Congressional and Legislative Affairs Office | DI150085 | 4/14/2015
| Office of the Solicitor | Counselor | DI150084 | 4/15/2015
DEPARTMENT OF JUSTICE | Office of Legislative Affairs | Chief of Staff and Attorney Advisor | DJ150072 | 4/24/2015
DEPARTMENT OF LABOR | Office of the Secretary | Special Assistant | DL150046 | 4/8/2015
|  | Director of Scheduling and Advance | DL150048 | 4/9/2015
|  | Special Advisor | DL150045 | 4/17/2015
| Employee Benefits Security Administration | Special Assistant | DL150050 | 4/10/2015
| Office of Public Affairs | Chief of Staff | DL150049 | 4/13/2015
| Office of Workers Compensation Programs | Senior Policy Advisor | DL150051 | 4/17/2015
| Office of the Solicitor | Special Counsel | DL150052 | 4/17/2015
| Office of Congressional and Intergovernmental Affairs | Associate Director of Intergovernmental Affairs | DL150055 | 4/30/2015
| Wage and Hour Division | Senior Advisor | DL150056 | 4/30/2015
OFFICE OF MANAGEMENT AND BUDGET | Office of the Director | Confidential Assistant | BO150025 | 4/8/2015
| Natural Resource Programs | Confidential Assistant | BO150024 | 4/13/2015
OFFICE OF THE UNITED STATES TRADE REPRESENTATIVE | Office of Public and Media Affairs Office of Intergovernmental Affairs and Public Liaison | Deputy Press Secretary Director for Intergovernmental Affairs and Public Engagement | TN150010 TN150011 | 4/9/2015 4/27/2015
SECURITIES AND EXCHANGE COMMISSION | Office of the Chairman | Confidential Assistant | SE150003 | 4/17/2015
SMALL BUSINESS ADMINISTRATION | Office of the Administrator | Special Assistant for Scheduling and Advance | SB150027 | 4/9/2015
DEPARTMENT OF STATE | Bureau for Education and Cultural Affairs | Senior Advisor | DS150036 | 4/8/2015
| Office of the Global Women's Issues | Staff Assistant | DS150064 | 4/28/2015
| Office of the Under Secretary for Management | Staff Assistant | DS150074 | 4/28/2015
DEPARTMENT OF TRANSPORTATION | Immediate Office of the Administrator | Director of Governmental, International and Public Affairs | DT150041 | 4/1/2015
|  | Director of External Affairs | DT150051 | 4/21/2015
|  | Senior Advisor | DT150055 | 4/29/2015
| Office of Public Affairs | Deputy Director for Public Affairs | DT150042 | 4/1/2015
|  | Assistant Press Secretary | DT150048 | 4/9/2015
| Office of the Assistant Secretary for Transportation Policy | Associate Director for Public Engagement | DT150045 | 4/9/2015
| Office of the Secretary | Special Assistant | DT150046 | 4/9/2015
|  | Special Assistant for Scheduling and Advance | DT150047 | 4/9/2015
|  | White House Liaison | DT150054 | 4/29/2015
DEPARTMENT OF THE TREASURY | Office of the Assistant Secretary (Public Affairs) | Senior Digital Strategy Specialist | DY150088 | 4/9/2015
| Office of the Secretary of the Treasury | Associate Director | DY150087 | 4/10/2015
| Office of the Under Secretary for Domestic Finance | Senior Advisor of Cybersecurity Strategy and Policy | DY150091 | 4/30/2015

The following Schedule C appointing authorities were revoked during April 2015.

Agency name | Organization name | Position title | Authorization No. | Vacate date
DEPARTMENT OF AGRICULTURE | Office of the Secretary | White House Liaison | DA130077 | 4/4/2015
DEPARTMENT OF COMMERCE | International Trade Administration | Senior Advisor to the Under Secretary | DC140147 | 4/3/2015
| Office of the Chief of Staff | Director, National Export Events | DC110027 | 4/6/2015
| Office of White House Liaison | Deputy Director | DC140129 | 4/18/2015
DEPARTMENT OF EDUCATION | Office of Legislation and Congressional Affairs | Special Assistant | DB140055 | 4/3/2015
| Office of the General Counsel | Special Counsel | DB120045 | 4/18/2015
ENVIRONMENTAL PROTECTION AGENCY | Office of the Administration | Special Assistant for Public Engagement | EP130038 | 4/4/2015
EQUAL EMPLOYMENT OPPORTUNITY COMMISSION | Office of the Chairman | Senior Policy Analyst | EE100006 | 4/3/2015
DEPARTMENT OF HEALTH AND HUMAN SERVICES | Office of the Assistant Secretary for Public Affairs | Digital Communications Coordinator | DH140058 | 4/3/2015
|  | Rollouts Director | DH130061 | 4/18/2015
|  | Deputy Director of Speechwriting | DH140032 | 4/20/2015
| Health Resources and Services Administration, Office of the Administrator | Special Assistant and Policy Advisor | DH150021 | 4/13/2015
| Office of the Secretary | Deputy Director for Scheduling and Advance | DH130071 | 4/17/2015
DEPARTMENT OF HOUSING AND URBAN DEVELOPMENT | Office of Policy Development and Research | Senior Advisor for Housing Finance | DU130015 | 4/4/2015
DEPARTMENT OF THE INTERIOR | Secretary's Immediate Office | Special Assistant to the Secretary | DI130015 | 4/18/2015
DEPARTMENT OF JUSTICE | Tax Division | Confidential Assistant | DJ130046 | 4/3/2015
DEPARTMENT OF LABOR | Employment and Training Administration | Senior Policy Advisor | DL120070 | 4/2/2015
| Office of Public Affairs | Special Assistant | DL110048 | 4/18/2015
OCCUPATIONAL SAFETY AND HEALTH REVIEW COMMISSION | Office of Commissioners Occupational Safety and Health Review Commission | Counsel to a Commissioner Confidential Assistant to the Chairman | SH100002 SH140001 | 4/27/2015 4/27/2015
OFFICE OF MANAGEMENT AND BUDGET | Office of Legislative Affairs | Confidential Assistant | BO150004 | 4/4/2015
SECURITIES AND EXCHANGE COMMISSION | Office of the Chairman | Confidential Assistant | SE110002 | 4/4/2015
SMALL BUSINESS ADMINISTRATION | Office of Field Operations | Regional Administrator, Region VIII, Denver, Colorado | SB130012 | 4/18/2015
DEPARTMENT OF TRANSPORTATION | Immediate Office of the Administrator | Associate Administrator for Governmental, International and Public Affairs | DT140051 | 4/4/2015
| Office of the Secretary | Special Assistant for Scheduling and Advance (2) | DT140016 DT140030 | 4/18/2015 4/18/2015

Authority: 5 U.S.C. 3301 and 3302; E.O. 10577, 3 CFR, 1954-1958 Comp., p. 218.

U.S. Office of Personnel Management.
Katherine Archuleta,
Director.

[FR Doc. 2015-14811 Filed 6-16-15; 8:45 am]

BILLING CODE 6325-39-P